DEPARTMENT OF COMMERCE

Bureau of Industry and Security

15 CFR Parts 740, 742, 748, 750, 752, and 760

Export Administration Regulations

CFR Correction

In Title 15 of the Code of Federal Regulations, Parts 300 to 799, revised as of January 1, 2012, make the following corrections:

1. On page 248, in § 740.1, correctly revise the heading of paragraph (d) to read “Shippers Export Declaration or Automated Export System Record”.

2. On page 321, in § 742.15, move the note to introductory paragraph (b) from under (b)(3) to its correct location above (b)(1), and add the following note under the introductory paragraph of (b)(3):

§ 742.15 Encryption items.

* * * * *

(b) * * *

(3) * * *

Note to introductory text of paragraph (b)(3): Once a mass market classification request is accepted in SNAP-R, you may export and reexport the encryption commodity or software under License Exception ENC as ECCN 5A002 or 5D002, whichever is applicable, to any end-user located or headquartered in a country listed in supplement No. 3 to part 740 as authorized by § 740.17(b) of the EAR, while the mass market classification request is pending review with BIS.

* * * * *

3. In Supplement No. 2 to part 742:

A. On page 332, remove paragraphs (c)(10)(i)(A) and (B), and

B. On page 336, add (c)(25)(i) to read as set forth below, and

C. On page 336, remove paragraphs (c)(27)(i)(A) and (B).

Supplement No. 2 to Part 742—Anti-Terrorism Controls: North Korea, Syria and Sudan Contract Sanctity Dates and Related Policies

* * * * *

(c) * * *

* * * * *

(25) * * *

(i) A license is required for the following telecommunications equipment: (A) Radio relay systems or equipment operating at a frequency equal to or greater than 19.7 GHz or “spectral efficiency” greater than 3 bit/s/Hz; (B) Fiber optic systems or equipment operating at a wavelength greater than 1000 nm; (C) “Telecommunications transmission systems” or equipment with a “digital transfer rate” at the highest multiplex level exceeding 45 Mb/s.

* * * * *

4. On page 422, in § 748.5, in paragraph (b), add the third sentence to read “Designation of another party to receive the license does not alter the responsibilities of the applicant, licensee or exporter.”

5. On page 446, in Supplement No. 2 to part 748, in paragraph (o)(3)(i), correct “E:2” to read “E:1”.

6. On page 466, in § 750.7, in paragraph (c)(1)(ii), correct “quality” to read “quantity” and correct “tolerance” to read “tolerances”.

7. On page 486, in Supplement No. 1 to part 752, in block 11, correct “SF ##” to read “SF #”.

8. On page 487, in Supplement No. 3 to part 752, in block 6, correct “BIS-748P-B” to read “BIS-748P-A”.

9. On page 568, in Supplement No. 7 to part 760, add the fourth paragraph to read as follows:

Supplement No. 7 to Part 760—Interpretation

* * * * *

The United States person may also provide certain services in advance of the unilateral selection by the boycotting country, such as the compilation of lists of qualified suppliers, so long as such services are customary to the type of business the United States person is engaged in, and the services rendered are completely non-exclusionary in character (i.e., the list of qualified suppliers would have to include the supplier whose goods had previously been rejected by the boycotting country, if they were fully qualified). See § 760.2(a)(6) of this part for a discussion of the requirements for the provision of these services.

* * * * *

[FR Doc. 2012-16905 Filed 7-9-12; 8:45 am]

BILLING CODE 1505-01-D